DEPARTMENT OF AGRICULTURE

Rural Business Cooperative Service

[Docket #: RBS-23-BUSINESS-0014]

Notice of Funding Opportunity for Rural Energy for America Program Technical Assistance Grant Program for Fiscal Year 2023

AGENCY: Rural Business Cooperative Service, USDA.

ACTION: Notice.

SUMMARY: The Rural Business Cooperative Service (RBCS or the Agency), a Rural Development (RD) agency of the United States Department of Agriculture (USDA), announces that it is accepting applications under the Rural Energy for America (REAP) Technical Assistance Grant (TAG) Program for fiscal year (FY) 2023. These grant funds will be made to qualified type of Applicants to provide technical assistance to Agricultural Producers and Rural Small Businesses applying to REAP, with priority for Applicants assisting distressed/disadvantaged communities, Applicants pursuing projects using underutilized technologies, and Applicants pursuing projects under $20,000. This Program has $21,250,000 available for FY 2023 utilizing funding provided under the Inflation Reduction Act of 2022. All Applicants are responsible for any expenses incurred in developing their applications.

DATES: Completed applications for grants must be submitted according to the following deadlines:

Paper submissions. Paper submissions must be received by the Agency no later than 4:00 p.m. local time on August 15, 2023, in the USDA RD State Office (RDSO) of the State where the project is located to be eligible for funding under this grant opportunity. A list of the RDSO can be found at https://www.rd.usda.gov/about-rd/state-offices.

Electronic submissions. Electronic submissions via https://www.Grants.gov or to a RDSO State Energy Coordinator via email must be received no later than 11:59 p.m. Eastern Time on August 15, 2023. The RDSO State Energy Coordinator for the applicable State can be found at: https://www.rd.usda.gov/contact-us/state-energy-coordinators.

ADDRESSES: This funding announcement will be announced on www.Grants.gov.

For applicants who wish to apply for multiple states, separate applications must be filed in each corresponding RDSO where the project is located. Applicants intending to apply in multiple states are encouraged to contact all RDSOs where they intend to apply for instructions in completing an application prior to the submission deadline date. Applicants may also request paper application packages from their respective RDSO.

Entities wishing to apply for assistance may download the application documents and requirements provided in this notice from https://www.Grants.gov. Application information for electronic submissions may be found at http://www.Grants.gov.

FOR FURTHER INFORMATION CONTACT: Jonathan Burns at jonathan.burns@usda.gov, Business Loan and Grant Analyst, Direct Programs Branch, RBCS, USDA, (774) 678-7238.

For further information on submitting program applications under this notice, please contact the RDSO in the state where the Applicant's headquarters is located. A list of RDSO contacts is provided at the following link: https://www.rd.usda.gov/about-rd/state-offices.

SUPPLEMENTARY INFORMATION:

Overview

Federal Awarding Agency Name: Rural Business Cooperative Service (RBCS).

Funding Opportunity Title: Rural Energy for America (REAP) Technical Assistance Grant (TAG) Program.

Announcement Type: Notice of Funding of Opportunity (NOFO).

Funding Opportunity Number: RD-BCP-23-TAG-REAP.

Assistance Listing: 10.868.

Dates: The deadline for paper submission applications to be received in the RDSO is no later than 4:00 p.m. local time on August 15, 2023. The deadline for electronic submissions is no later than 11:59 p.m. Eastern Time on August 15, 2023. Late or incomplete Applications will not be eligible for funding.

A. Program Description

1. Purpose of the Program. The purpose of the REAP TAG Program is to enable applicants to provide technical assistance to Agricultural Producers and Rural Small Businesses applying to REAP, with priority for Applicants assisting distressed or disadvantaged communities and for Applicants pursuing projects using underutilized technologies or seeking grants under $20,000. To meet this purpose, the Agency will make grants to eligible entities to provide services to assist potential REAP Applicants in submitting Complete Applications.

2. Statutory and Regulatory Authority. The REAP TAG Program is authorized under the Inflation Reduction Act of 2022 (Pub. L. 117-169, “IRA”), Title II, Subtitle C, Section 22002, and will be administered by RBCS.

3. Definitions. The definitions and abbreviations applicable to this notice are published at 7 CFR 4280.103.

For purposes of this Notice only, underutilized renewable energy technologies (underutilized technologies) are defined as those technologies that make up less than 20 percent of the total grant dollars obligated at the end of the fiscal year, two (2) years previous to the current year. For example, FY 2021 award data will be utilized to determine which technologies are underutilized technologies for the FY 2023 competition. The eligible underutilized technologies will be fixed at the time of award for the duration of the period of performance.

For awareness, the number of employees calculation used to determine the size of a business concern in the definition of Small Business is being updated to 24 months versus 12 months, to align with recent changes made by the Small Business Administration.

4. Application of Awards. The Agency will review, evaluate, and score applications as indicated in this notice. Awards under the REAP TAG Program will be made on a competitive basis using specific selection criteria contained in Section E.1. of this notice. The Agency advises all interested parties that the Applicant bears the full burden in preparing and submitting an application in response to this notice.

B. Federal Award Information

Type of Awards: Grants.

Fiscal Year Funds: FY 2023.

Available Funds: The FY 2023 total funding amount is $21,250,000. RBCS may, at its discretion, increase the total level of funding available in this funding round, or in any category in this funding round, from any available source provided the awards meet the requirements of the statute which made the funding available to the Agency.

All remaining unobligated funds at the end of FY 2023 will be used for the Underutilized Technologies Fund established in the Federal Register notice 88 FR 19239, Notice of Solicitation of Applications (NOSA) for the Rural Energy for America Program for Fiscal Years 2023 and 2024, published on March 31, 2023.

Award Amounts: A grant award will not exceed $500,000 to a single applicant. RDSOs may select a single or multiple Applicants that are awarded a REAP TAG grant. No award amount of less than $100,000 will be made.

Anticipated Award Date: Awards will be made before September 30, 2023.

Performance Period: The grant period is at the discretion of the Applicant but in any event no more than three (3) years. Applicants should be aware that additional funding opportunity announcements may be made in future years.

Renewal or Supplemental Awards: Applicants may apply for funding in future funding cycles. No unfunded applications will carry over to the next funding cycle. Applicants must re-apply for an additional grant, and receipt of past REAP TAG Program awards does not guarantee receipt of future awards.

Type of Assistance Instrument: Grant agreement.

C. Eligibility Information

1. Eligible Applicants. Eligible Applicants must meet the eligibility requirements, as applicable, specified in paragraphs (a) through (c) of this section.

(a) Eligible Applicants are:

(1) A unit of State, Tribal, or local government;

(2) A land-grant college or university, or other Institution of Higher Education;

(3) An electric cooperative;

(4) A Public Power Entity;

(5) An Investor-owned utility;

(6) A Council, as defined under the Resource Conservation and Development Program, at 16 U.S.C. 3451.

(7) A Not-for-profit entity;

(8) A For-profit entity;

(9) A Sole proprietor business;

(10) Other business entities (organized pursuant to Federal, State, or Tribal law).

(b) The Applicant must have sufficient capacity to perform the activities proposed in the application to ensure success. The Agency will make this assessment based on the information provided in the application.

(c) The Applicant must have the legal authority necessary to apply for and carry out the purpose of the grant.

2. Cost Sharing or Matching. There are no cost sharing or matching requirements associated with this grant.

3. Other. All submitted applications must meet the eligibility requirements in this notice. Applications will not be considered for funding if they do not provide sufficient information to determine eligibility or are missing required elements.

(a) Eligible Activities. Includes recruitment of Renewable Energy or energy efficiency projects, identification of electrical engineering services, preparation of REAP applications for Agency financial assistance, as well as preparing reports and assessments necessary to request financial assistance. Contracted services are allowable. All activities must be directly related to providing technical assistance to Agricultural Producers or Rural Small Businesses to apply for assistance under REAP. Eligible activities include but are not limited to:

(1) Assisting Agricultural Producers or Rural Small Businesses to apply for assistance under REAP for Energy Efficiency Improvements, or Renewable Energy Systems.

(2) Providing information on how to improve the energy efficiency of the operations and to use Renewable Energy technologies and resources in their operations.

(3) Conducting and promoting Energy Assessments and audits as defined in 7 CFR 4280.103.

(4) Preparing a technical report in accordance with 7 CFR 4280.110(g).

(5) Assisting with filing for System Award Management (SAM) and Unique Entity Identifier (UEI) registrations.

(6) Assisting with completing a REAP grant application in accordance with 7 CFR 4280.116.

(7) Assisting with planning construction and development in accordance with 7 CFR 4280.125.

(8) Assisting with completion of environmental reports and/or documentation required for submittal of applications.

(b) Ineligible activities. Includes, but are not limited to:

(1) Projects where funding is not targeted directly to assisting Agricultural Producers or Rural Small Businesses.

(2) Projects which propose to provide Energy Audits or Renewable Energy Development Assistance for residential purposes.

(c) Eligible Project Costs. Those costs incurred after the date a complete Application is received by the Agency and that are directly related to technical assistance to Agricultural Producers or Rural Small Businesses to apply for assistance under REAP, which include but are not limited to:

(1) Salaries;

(2) Travel expenses;

(3) Office supplies (e.g., paper, pens, file folders); and

(4) Expenses charged as a direct cost or as an indirect cost of up to a maximum of 5 percent for administering the grant.

(d) Ineligible Project Costs. Includes, but are not limited to:

(1) Payment for any construction-related activities;

(2) Purchase or lease of equipment;

(3) Payment of any judgment or debt owed to the United States;

(4) Any goods or services provided by a Person or entity who has a conflict of interest as provided in 7 CFR 4280.106;

(5) Any costs of preparing the application package for funding under this notice;

(6) Funding of political or lobbying activities; and

(7) Payment or waiver of student tuition.

(e) Do Not Pay. The Agency will check the Do Not Pay portal to determine if the applicant has been debarred or suspended at the time of application and also prior to funding any grant award.

D. Application and Submission Information

1. Address to Request Application Package. Entities wishing to apply for assistance through the REAP TAG Program should contact the RDSO provided in the ADDRESSES section of this notice to obtain copies of the application package. Application information is also available at https://www.grants.gov/.

2. Content and Form of Application Submission. An application must contain all the required elements outlined in paragraphs (a) through (h) of this section. Each application must address the applicable scoring criteria presented in Section E.1. of this notice for the type of funding being requested.

(a) Form SF-424, Application for Federal Assistance (For Non-Construction).

(b) Form SF 424A, Budget Information—Non-Construction Programs.

(c) Form RD 400-4, Assurance Agreement.

(d) Form RD 400-1, Equal Opportunity Agreement.

(e) Certification that the Applicant is a legal entity in good standing (as applicable) and operating in accordance with the laws of the State(s) or Tribe where the Applicant has a place of business.

(f) The Applicant must identify whether the Applicant has a known relationship or association with an Agency employee. If there is a known relationship, the Applicant must identify each Agency employee with whom the Applicant has a known relationship.

(g) A proposed scope of work to include the items listed in paragraphs (1) to (10) of this section. The proposed scope of work must be typed, single-spaced, in 11-point font, not to exceed 25 8.5 x 11″ pages.

(1) A brief summary, including a project title, describing the proposed project;

(2) Goals of the proposed project;

(3) Geographic scope or service area of the proposed project and the method and rationale used to select the service area;

(4) Identification of the specific needs for the service area and the target audience to be served. List or describe the types of technical assistance and proposed services to be provided. State the number of Agricultural Producers and/or Rural Small Businesses to be served and identified, including name and contact information, if available, as well as the method and rationale used to select the Agricultural Producers and/or Rural Small Businesses;

(5) Timeline describing the proposed tasks to be accomplished and the schedule for implementation of each task. Include whether organizational staff, consultants, or contractors will be used to perform each task. If a project is located in multiple States, resources must be sufficient to complete all projects;

(6) Marketing strategies to include a discussion on how the Applicant will be marketing and providing outreach activities to the proposed service area ensuring that Agricultural Producers and/or Rural Small Businesses are served;

(7) Applicant's experience as follows:

(i) The Applicant's experience in completing similar activities, such as Renewable Energy Site Assessments, Energy Audits, and Renewable Energy Technical Assistance provided directly to Agricultural Producers and Rural Small Businesses, including the number of similar projects the Applicant has performed and the number of years the Applicant has been performing a similar service. Include personnel on staff or to be contracted to provide the service and their experience with similar projects.

(ii) The amount of experience in administering similar activities as applicable to the purpose of the proposed project. Provide commentary if the Applicant has any existing programs that can demonstrate the achievement of energy savings or energy generation with Agricultural Producers and/or Rural Small Businesses the Applicant has served. If the Applicant has received one or more accolades within the last 5 years in recognition of its Renewable Energy, energy savings, or energy-based technical assistance, please describe the achievement(s).

(8) Latest financial information to show the Applicant's financial viability to carry out the proposed work. A current audit report is preferred; however, Applicants not subject to 2 CFR 200, subpart F may submit a balance sheet, income statement, and statement of cash flows in lieu of an audit report.

(9) Itemized budget including contracted services and itemized staff salaries and benefits; and estimated breakdown of costs (direct and indirect) including those to be funded by the Applicant as well as other sources. Sufficient detail should be provided to permit the approval official to determine reasonableness, applicability, and allowability.

(10) Summarize the Applicant's capacity to perform the proposed technical assistance activities including a summary of all other programs and activities the Applicant will also perform during the proposed project performance period.

(h) Documentation on each of the scoring criteria listed in Section E.1. of this notice. Documentation in support of scoring criteria must be typed, single-spaced, in an 11-point font, not to exceed 25 8.5 x 11″ pages. Acceptable file types include .doc, .docx, .pdf, .jpg, .jpeg, .png, .gif, .xls, .xlsx, .txt, .ppt, and .pptx. If the Applicant would like to submit another file type, please contact the RDSO first for approval.

3. System for Award Management and Unique Entity Identifier.

(a) At the time of application, each Applicant must have an active registration in the System for Award Management (SAM) before submitting its application in accordance with 2 CFR part 25. In order to register in SAM, entities will be required to obtain a Unique Entity Identifier (UEI). Instructions for obtaining the UEI are available at https://sam.gov/content/entity-registration.

(b) Applicants must maintain an active SAM registration, with current, accurate and complete information, at all times during which it has an active Federal award or an application under consideration by a Federal awarding agency.

(c) Applicant must ensure they complete the Financial Assistance General Certifications and Representations in SAM.

(d) Applicants must provide a valid UEI in its application, unless determined exempt under 2 CFR 25.110.

(e) The Agency will not make an award until the Applicant has complied with all SAM requirements including providing the UEI. If an Applicant has not fully complied with the requirements by the time the Agency is ready to make an award, the Agency may determine that the Applicant is not qualified to receive a federal award and use that determination as a basis for making a Federal award to another Applicant.

4. Submission Dates and Times.

(a) Application for Technical Assistance. Prior to official submission of applications, Applicants may request technical assistance or other application guidance from the Agency, as long as such requests are made prior to August 10, 2023. Agency contact information can be found in FOR FURTHER INFORMATION CONTACT section of this notice.

(b) Application Deadline Date.

Paper submissions. Paper submissions must be received by the Agency no later than 4:00 p.m. local time on August 15, 2023, in the RDSO of the State where the project is located to be eligible for funding under this grant opportunity. A list of the RDSOs can be found at https://www.rd.usda.gov/about-rd/state-offices.

Electronic submissions. Electronic submissions via https://www.Grants.gov or to a RDSO State Energy Coordinator via email must be received no later than 11:59 p.m. Eastern Time on August 15, 2023. The State Energy Coordinator in the applicable State to be eligible for funding under this grant opportunity contact list can be found at: https://www.rd.usda.gov/contact-us/state-energy-coordinators.

(c) Applications Received After Deadline Date. If completed applications are not received by the August 15, 2023, deadline, the application will neither be reviewed nor considered for funding under any circumstances. The Agency will not solicit or consider new scoring or eligibility information that is submitted after the application deadline. RBCS reserves the right to ask Applicants for clarifying information and additional verification of assertions in the application.

5. Intergovernmental Review. Executive Order (E.O.) 12372, “Intergovernmental Review of Federal Programs,” applies to this program. This E.O. requires that Federal agencies provide opportunities for consultation on proposed assistance with State and local governments. Many States have established a Single Point of Contact (SPOC) to facilitate this consultation. For a list of States that maintain a SPOC, please see the White House website: https://www.whitehouse.gov/omb/management/office-federal-financial-management/. If an Applicant's State has a SPOC, Applicants may submit a copy of the application directly for review. Any comments obtained through the SPOC must be provided to your State Office for consideration as part of your application. If your State has not established a SPOC, you may submit your application directly to the Agency. Applications from Federally recognized Indian Tribes are not subject to this requirement.

6. Funding Restrictions. Applications must be for eligible purposes as defined above.

7. Other Submission Requirements.

(a) Paper applications must be mailed, shipped or sent overnight, or hand carried.

(b) Applicants may apply to one or multiple RDSO(s) to perform work on behalf of Applicants from that/those jurisdiction(s).

E. Application Review Information

1. Criteria. All eligible and Complete Applications will be evaluated and scored based on the selection criteria and weights outlined in this section. Failure to address any one of the criteria by the application deadline will result in the application being determined ineligible, and the application will not be considered for funding. Documentation in support of scoring criteria must be typed, single-spaced, in an 11-point font, not to exceed 25 8.5 x 11″ pages.

(a) Experience. A maximum of 20 points will be awarded for this criterion. Applicants should provide a narrative description of their organizational and aggregate staff experience at implementing successful technical assistance programs. Applicants should note prior projects or experience related to energy efficiency, Renewable Energy Systems, federal funding, and technical assistance provision.

(1) More than 10 years of successful implementation, 20 points will be awarded;

(2) More than 5 years to less than 10 years of successful implementation, 15 points will be awarded;

(3) More than 3 to less than 5 years of successful implementation, 10 points will be awarded;

(4) More than 1 to less than 3 years of successful implementation, 5 points will be awarded; or

(5) Applicants with less than 1 year of experience, 0 points will be awarded.

(b) Soundness of approach. A maximum of 30 total points will be awarded for this criterion. For each criterion listed below a maximum of 15 points will be awarded for each. Applicants should address each component with a brief narrative response.

(1) Work plan clearly articulates a well thought out approach to accomplishing objectives & clearly identifies who will be served by the project and demonstrates knowledge of and experience working with those served; (Small businesses and Agricultural Producers)—0 to 15 points will be awarded; and

(2) Goals & objectives are clearly defined, tied to the need as defined in the work plan, and are measurable in terms of new applications generated- 0 to 15 points will be awarded.

(c) Recruitment of Priority REAP Projects. 20 points will be awarded for this criterion. Applicants should provide a narrative addressing which of the following priority REAP project(s) will be targeted and how those project(s) will be targeted. Exactly 20 points will be awarded for satisfactory targeting of one or more of these project types as follows:

(1) Projects requesting $20,000 or less in REAP funds.

(2) Projects in disadvantaged or distressed communities as defined in Section F.1.ii.(b) of the NOSA for the REAP Program that published in the Federal Register on March 31, 2023 (https://www.govinfo.gov/content/pkg/FR-2023-03-31/pdf/2023-06376.pdf). A map of disadvantaged or distressed communities can be found at https://ruraldevelopment.maps.arcgis.com/apps/webappviewer/index.html?id=4acf083be4c44bb7864d90f97de0c788.

(3) Projects seeking funding for Underutilized Technologies, as defined in Section A.3 of this notice.

(d) Performance measures. A maximum of 10 points will be awarded for this criterion. Applicants can receive up to 10 points based on the proposed performance measures to evaluate the progress and impact of the proposed project. Performance measures should be based on the applicant's proposed scope of work as described in SectionD.2(g) of this notice and must include a description for how the results of the technical assistance will be measured and the benchmarks to be used for measuring effectiveness. Indicators to be used should be specific and quantifiable.

(e) State Director discretionary points. The State Director may award up to 20 discretionary points to address geographic distribution of funds, ensure selection of Priority REAP Projects as described in Section E.1(d) of this notice that meet the needs of the respective state or region, or if selecting the application helps further a Presidential initiative or a Secretary of Agriculture priority.

2. Review and Selection Process. The RDSOs will review applications to determine if applications are eligible for assistance based on the eligibility requirements in Section C of this notice. Applicants meeting those eligibility requirements will be scored based on the criteria in Section E.1. of this notice. Only those meeting the minimum score of 40 points will be considered for funding. The total maximum points that an Applicant may receive is 100 points. Applications will be evaluated based only on required information submitted by the Applicant in the application. All applications that are complete and eligible will be scored and ranked competitively against all other applications received in a particular state by that RDSO. The Agency reserves the right to offer the Applicant less than the grant funding requested and to choose a lower scoring application but only if the same applicant has already been awarded a grant pursuant to this Notice for an application in a different RDSO.

If an application is withdrawn by the Applicant, it can be resubmitted and will be evaluated as a new application, provided the application is resubmitted before the submission deadline.

Funding of projects is subject to the Applicant's satisfactory submission of the additional items required by Section F and the USDA RD Letter of Conditions.

F. Federal Award Administration Information

1. Federal Award Notices. Successful Applicants will receive notification for funding from the RDSO. Applicants must comply with all applicable statutes and regulations before the grant award can be approved.

2. Administrative and National Policy Requirements.

In addition, all recipients of Federal financial assistance are required to report information about executive compensation (see, 2 CFR part 170 (https://www.ecfr.gov/current/title-2/part-170). The Applicant will be required to have the necessary processes and systems in place to comply with the Federal Funding Accountability and Transparency Act of 2006 (Pub. L. 109- 282) and reporting requirements (see, 2 CFR 170.200(b) (https://www.ecfr.gov/current/title-2/subtitle-A/chapter-I/part-170/subpart-B/section-170.200), unless the recipient is exempt under 2 CFR 170.110(b) (https://www.ecfr.gov/current/title-2/subtitle-A/chapter-I/part-170/subpart-A/section-170.110).

The following additional requirements apply to Applicants selected for this program:

(a) Form RD 1940-1, “Request for Obligation of Funds.”

(b) Form RD 1942-46, “Letter of Intent to Meet Conditions.”

(c) Form SF-LLL, “Disclosure of Lobbying Activities,” if applicable.

(d) Form SF 270, “Request for Advance or Reimbursement.”

(e) Form RD 400-4, “Assurance Agreement” must be completed by the Applicant.

(f) Grantees must collect and maintain data provided by REAP grant applicant on race, sex, and national origin. Race and ethnicity data will be collected in accordance with OMB Federal Register notice, “Revisions to the Standards for the Classification of Federal Data on Race and Ethnicity” (62 FR 58782), October 30, 1997. Sex data will be collected in accordance with title IX of the Education Amendments of 1972. These items should not be submitted with the application but should be available upon request by the Agency.

(g) The Applicant must comply with title VI of the Civil Rights Act of 1964, title IX of the Education Amendments of 1972, Americans with Disabilities Act (ADA), section 504 of the Rehabilitation Act of 1973, Age Discrimination Act of 1975, Executive Order 12250, Executive Order 13166 Limited English Proficiency (LEP), and 7 CFR part 1901, subpart E.

3. Grant Disbursement. The Agency will disburse grants either by advance or reimbursement. Request for Advance or Reimbursement, Form SF-270, must be completed by the grantee and submitted to the Agency, no more often than monthly to request either advance or reimbursement of funds.

4. Reporting.

(a) Project Performance/Reporting. After grant approval and through grant completion, awardees will be required to provide the following, as indicated in the Financial Assistance Agreement:

(1) Federal Financial Report, Form SF-425, and a project performance report will be required on a semiannual basis (due 30 working days after end of the semiannual period). For the purposes of this grant, semiannual periods end on March 31st and September 30th. The project performance reports shall include the elements prescribed in the Financial Assistance Agreement, including, as appropriate, but not limited to:

(i) A description of the activities that the funds reflected in the financial status report were used for including the number of recipients (Agricultural Producers and Rural Small Businesses) assisted, and the type of assistance provided, a list of recipients with each recipient's North American Industry Classification System (NAICS) code, the location of each recipient, and Renewable Energy technology that would be used or Energy Efficiency Improvement if the projects were implemented. Also provide the number of and identify the recipients who submitted REAP grant applications and the recipients receiving REAP grant awards (noting those with distressed or disadvantaged community status and underutilized technology status).

(ii) A comparison of actual accomplishments to the objectives for that period;

(iii) Reasons why established objectives were not met, if applicable;

(iv) Problems, delays, or adverse conditions which will affect attainment of overall program objectives, prevent meeting time schedules or objectives, or preclude the attainment of objectives during established time periods. This disclosure shall be accomplished by a Statement of the action taken or planned to resolve the situation;

(v) Objectives and timetables established for the next reporting period;

(vi) A demographic summary of the of the agricultural producers and business owners receiving the technical assistance.

(2) A final project and financial status report within 90 days after the expiration or termination of the grant.

(3) Outcome project performance report. One year after project completion, awardees must provide a project performance report describing their outcomes as related to REAP TAG Program goals as identified in your Financial Assistance Agreement. The final report will also address the following:

(i) The most challenging or unexpected aspects of this grant.

(ii) What advice you would give to other organizations applying for this grant.

(iii) The strengths and limitations of this grant.

(iv) If you had the opportunity, what would you have done differently?

(iv) Are there any post-grant plans for this Project?

The report is due 60 days after the first full year following the year in which the expansion project was completed.

5. Signage. The Awardee is encouraged to display USDA standard infrastructure investment signage, available for download from the Agency, during construction of the Project. Expenditures for such signage shall be a permitted eligible cost of the Project.

G. Federal Awarding Agency Contact(s)—For general questions about this announcement, please contact your RDSO as provided in the ADDRESSES section of this notice or the program website at: https://www.rd.usda.gov/reap

H. Other Information

1. Paperwork Reduction Act. In accordance with the Paperwork Reduction Act of 1995, the information collection requirements associated with the program, as covered in this notice, have been approved by the Office of Management and Budget (OMB) under OMB Control Number 0503-0028.

2. National Environmental Policy Act. All Applicants under this notice are subject to the requirements of 7 CFR 1970, available at: https://rd.usda.gov/resources/environmental-studies/environmental-guidance. However, awards for technical assistance and training under this notice are classified as a Categorical Exclusion according to 7 CFR 1970.53(b), and usually do not require any additional documentation. RBCS will review each grant application to determine its compliance with 7 CFR part 1970. The Applicant may be asked to provide additional information or documentation to assist RBCS with this determination.

3. Federal Funding Accountability and Transparency Act. All Applicants, in accordance with 2 CFR part 25, must be registered in SAM and have a UEI number as stated in Section D.3 of this notice. All recipients of Federal financial assistance are required to report information about first-tier sub-awards and executive total compensation in accordance with 2 CFR part 170.

4. Civil Rights Act. All grants made under this notice are subject to Title VI of the Civil Rights Act of 1964 as required by the USDA (7 CFR part 15, subpart A—Nondiscrimination in Federally-Assisted Programs of the Department of Agriculture—Effectuation of Title VI of the Civil Rights Act of 1964) and Section 504 of the Rehabilitation Act of 1973, Title VIII of the Civil Rights Act of 1968, Title IX, Executive Order 13166 (Limited English Proficiency), Executive Order 11246, and the Equal Credit Opportunity Act of 1974.

5. Nondiscrimination Statement. In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, Agency, or staff office or the 711 Relay Service.

To file a program discrimination complaint, a complainant should complete a Form AD-3027, USDA Program Discrimination Complaint Form, which can be obtained online at https://www.usda.gov/sites/default/files/documents/ad-3027.pdf from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690- 7442; or

(3) Email: program.intake@usda.gov.

USDA is an equal opportunity provider, employer, and lender.

Karama Neal,
Administrator, Rural Business Cooperative Service, USDA Rural Development.

[FR Doc. 2023-14832 Filed 7-13-23; 8:45 am]

BILLING CODE 3410-XY-P